DEPARTMENT OF HOMELAND SECURITY

Coast Guard

[Docket No. USCG-2021-0742]

National Merchant Marine Personnel Advisory Committee Meeting

AGENCY: U.S. Coast Guard, Department of Homeland Security.

ACTION: Notice of Federal Advisory Committee meeting.

SUMMARY: The National Merchant Marine Personnel Advisory Committee (Committee) and its Working Groups will meet in Piney Point, MD, to discuss issues relating to personnel in the United States Merchant Marine including the training, qualifications, certification, documentation, and fitness of mariners.

DATES:

Meetings: The National Merchant Marine Personnel Advisory Committee and its Working Groups are scheduled to meet on Tuesday, November 16, 2021, from 8:30 a.m. until 4:30 p.m., Wednesday, November 17, 2021, from 8:30 a.m. until 4:30 p.m., and the full Committee is scheduled to meet on Thursday, November 18, 2021, from 9:00 a.m. until 4:30 p.m. These meetings may adjourn early if the Committee has completed its business.

Comments and supporting documentation: To ensure your comments are received by Committee members before the meetings, submit your written comments no later than November 4, 2021.

ADDRESSES: The meeting will be held at the Harry Lundeberg School of Seamanship at 45353 Saint Georges Avenue Piney Point, MD 20674; additional information can be found at: https://www.seafarers.org/training-and-careers/jobs/the-seafarers-harry-lundeberg-school-of-seamanship/.

Pre-registration Information: Pre-registration is required for in-person access to the meeting, but is not required for anyone attending via teleconference. In-person attendance to the meeting will be limited to the first 49 registrants, with priority for members of the Committee and Coast Guard support staff. If you are not a member of the Committee and do not represent the Coast Guard, you must request in-person attendance by contacting the individual listed in the FOR FURTHER INFORMATION CONTACT section of this notice. You will receive a response noting if you are able to attend in-person or if the in-person attendance roster is full. Additionally, the N-MERPAC mailing list will receive a notification when the in-person attendance roster is full.

Attendees at the meeting will be required to follow COVID-19 safety guidelines promulgated by the Centers for Disease Control and Prevention (CDC), which may include the need to wear masks and by completing Certification of Vaccination Form OMB Control No. 3206-0277, or providing proof of vaccination. This form can be accessed at: CertificationVaccinationPRAv7.pdf (menlosecurity.com). You may be asked to show this form when entering the facility. Please maintain this form during your visit. Masks will be provided for attendees. CDC guidance on COVID protocols can be found here: https://www.cdc.gov/coronavirus/2019-ncov/communication/guidance.html.

Teleconference lines and live virtual document sharing will be available for the full meeting and for all sessions of the work groups. After November 4, 2021, this teleconference information will be available on the agendas published to the FACA Homeport website and will be emailed to everyone on the N-MERPAC mailing list. You may also request this information by contacting the individual listed in the FOR FURTHER INFORMATION CONTACT section of this notice, after November 4, 2021.

For information on facilities or services for individuals with disabilities or to request special assistance at the meeting, contact the individual listed in the FOR FURTHER INFORMATION CONTACT section of this notice.

Instructions: You are free to submit comments at any time, including orally at the meeting, but if you want Committee members to review your comment before the meeting, please submit your comments no later than November 4, 2021. We are particularly interested in comments on the issues in the “Agenda” section below. We encourage you to submit comments through the Federal eRulemaking portal at https://www.regulations.gov. If your material cannot be submitted using https://www.regulations.gov, email the individual in the FOR FURTHER INFORMATION CONTACT section of this document for alternate instructions. You must include the words “Department of Homeland Security” and the docket number USCG-2021-0742. Comments received will be posted without alteration at https://www.regulations.gov, including any personal information provided. You may wish to view the Privacy and Security Notice available on the homepage of https://www.regulations.gov, and DHS's eRulemaking System of Records notice (85FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions.

FOR FURTHER INFORMATION CONTACT: Mrs. Megan Johns Henry, Alternate Designated Federal Officer of the National Merchant Marine Personnel Advisory Committee, telephone (202) 372-1255, or email megan.c.johns@uscg.mil.

SUPPLEMENTARY INFORMATION: Notice of this meeting is in compliance with the Federal Advisory Committee Act (5 U.S.C. Appendix). The National Merchant Marine Advisory Committee is authorized by section 601 of the Frank LoBiondo Act of 2018 and is codified in 46 U.S.C. 15103, and makes recommendations to the Secretary of Homeland Security through the Commandant, U.S. Coast Guard on matters relating to personnel in the United States Merchant Marine including the training, qualifications, certification, documentation, and fitness of mariners.

Agenda

The National Merchant Marine Advisory Committee will meet on Tuesday, November 16, 2021, Wednesday, November 17, 2021, and Thursday, November 18, 2021 to review, discuss, deliberate and formulate recommendations, as appropriate on the following topics:

Day 1

The agenda for the November 16, 2021, meeting is as follows:

(1) The full Committee will meet briefly to discuss the Working Groups' business/task statements, which are listed under paragraph (5)(a)-(i) under Day 3 below.

(2) The full Committee will then meet to discuss and work on Task Statement 21-X9, Sexual Harassment and Sexual Assault—Prevention and Culture Change in the Merchant Marine.

(3) The following Working Groups will then separately address the following task statements which are available for viewing at https://homeport.uscg.mil/missions/federal-advisory-committees/national-merchant-marine-personnel-advisory-committee-(nmerpac);

(a) Task Statement 21-X4, STCW Convention and STCW Code Review;

(b) Task Statement 21-X7, Non-Operating Individuals.

(c) Task Statement 21-X8, Remote Operator of Maritime Autonomous Surface Ships.

(4) Reports of Working Groups. At the end of the day, the Chair of each Working Group will report to the full Committee on what was accomplished in their meetings. The full Committee will not take action on this date and a full report will be given on Day 3 of the meeting. Any official action taken as a result of these Working Group meetings will be taken on Day 3 of the meeting.

(5) Adjournment of meeting.

Day 2

The agenda for the November 17, 2021, meeting is as follows:

(1) The full Committee will meet briefly to discuss the Working Groups' business/task statements, which are listed in paragraph (5)(a)-(h) under Day 3 below.

(2) Working Groups will separately address the following task statements which are available for viewing at https://homeport.uscg.mil/missions/federal-advisory-committees/national-merchant-marine-personnel-advisory-committee-(nmerpac);

(a) Task Statement 21-X4, STCW Convention and STCW Code Review;

(b) Task Statement 21-X7, Non-Operating Individuals;

(c) Task Statement 21-X8, Remote Operator of Maritime Autonomous Surface Ships.

(3) Reports of Working Groups. At the end of the day, the Chair of each Working Group will report to the full Committee on what was accomplished in their meetings. The full Committee will not take action on this date and a full report will be given on day three of the meeting. Any official action taken as a result of these Working Group meetings will be taken on day three of the meeting.

(4) Adjournment of meeting.

Day 3

The agenda for the November 18, 2021 full Committee meeting is as follows:

(1) Introduction.

(2) Announcements from Designated Federal Officer.

(3) Roll call, introduction, and swearing-in of newly appointed Committee members; determination of a quorum.

(4) Election of Chair and Vice Chair by Committee members.

(5) Presentation of tasks.

(a) Task Statement 21-X1, Review of IMO Model Courses;

(b) Task Statement 21-X2, Communications Between Industry and Mariner Credentialing Program;

(c) Task Statement 21-X3, Military Education, Training, and Assessment for STCW and National MMC Endorsements;

(d) Task Statement 21-X4, STCW Convention and STCW Code Review;

(e) Task Statement 21-X5, Job Task Analysis Review;

(f) Task Statement 21-X6, Sea Service for MMC Endorsements;

(g) Task Statement 21-X7, Non-Operating Individuals;

(h) Task Statement 21-X8, Remote Operator of Maritime Autonomous Surface Ships;

(i) Task Statement 21-X9, Sexual Harassment and Sexual Assault- Prevention and Culture Change in the Merchant Marine.

(6) Presentations from the Mariner Credentialing Program:

(a) Office of Merchant Mariner Credentialing Update;

(b) National Maritime Center Update;

(7) Presentations from the Work Group Chairs. The Committee will review the information presented on each issue, deliberate on any recommendations presented by the Working Groups, approve/formulate recommendations, and close any completed tasks. Official action on these recommendations may be taken on this date.

(a) Task Statement 21-X4, STCW Convention and STCW Code Review;

(b) Task Statement 21-X7, Non-Operating Individuals;

(c) Task Statement 21-X8, Remote Operator of Maritime Autonomous Surface Ships.

(8) Public comment period.

(9) Closing remarks/plans for next meeting.

(10) Adjournment of meeting.

A copy of all meeting documentation will be available at: https://homeport.uscg.mil/missions/federal-advisory-committees/national-merchant-marine-personnel-advisory-committee-(nmerpac) by November 4, 2021. Alternatively, you may contact the individual noted in the FOR FURTHER INFORMATION CONTACT section above.

Public comments or questions will be taken throughout the meeting as the Committee discusses the issues and prior to deliberations and voting. There will also be a public comment period at the end of the meeting. Speakers are requested to limit their comments to 2 minutes. Please note that the public comment period will end following the last call for comments. Contact the individual listed in the FOR FURTHER INFORMATION CONTACT section above, to register as a speaker.

Dated: October 22, 2021.
Jeffrey G. Lantz,
Director of Commercial Regulations and Standards.

[FR Doc. 2021-23448 Filed 10-27-21; 8:45 am]

BILLING CODE 9110-04-P